DEPARTMENT OF HEALTH AND HUMAN SERVICES

Office of the Secretary

Agency Information Collection Activities: Submission for OMB review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB.

1. Study of Fathers' Involvement in Permanency Planning and Child Welfare Casework—New—The Office of the Assistant Secretary for Planning and Evaluation proposes a study to assess how four states identify, locate, and involve non-custodial fathers in decision making and permanency planning for children in the child welfare system. Respondents: State or local governments—State and Local Administrator Burden Information—Number of Respondents: 44; Average Burden per Response: 35 minutes; Total Administrator Burden: 26 hours—Caseworker Burden Information—Number of Respondents: 1,200; Average Burden per Response: 55 minutes; Total Caseworker Burden: 1,100 hours—Administrative Burden—Number of Respondents: 8 Average Burden per Response: 90 minutes; Total Administrative Burden: 12 hours—Total Burden: 1,138 hours.

OMB Desk Officer: Allison Herron Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street NW., Washington, DC 20503.

Comments may also be sent to Cynthia Agens Bauer, OS Reports Clearance Officer, Room 503H, Humphrey Building, 200 Independence Avenue SW., Washington DC, 20201. Written comments should be received with 30 days of this notice.

Dated: November 22, 2002.
Kerry Weems,
Deputy Assistant Secretary, Budget.

[FR Doc. 02-31083 Filed 12-9-02; 8:45 am]

BILLING CODE 4154-05-M